DEPARTMENT OF JUSTICE

Antitrust Division

Notice Pursuant to the National Cooperative Research and Production Act of 1993—Southwest Research Institute: The Consortium for NASGRO Development and Support

Notice is hereby given that, on October 18, 2004, pursuant to section 6(a) of the nat8ional Cooperative Research and Production Act of 1993, 15 U.S.C. 4301 et seq. (“the Act”), Southwest Research Institute: The Consortium for NASGRO Development and Support has filed written notifications simultaneously with the Attorney General and the Federal Trade Commission disclosing changes in the membership and project status of the venture. The notifications were filed for the purpose of extending the Act's provisions limiting the recovery of antitrust plaintiffs to actual damages under specified circumstances. Specifically, the period of performance has been extended to May 31, 2007. Additionally, Honeywell International, Inc., Phoenix, AZ, has been added as a party to this venture; and Agusta s.p.a., Costina Costa de Samarate, Italy; Korea Aerospace Industries, Ltd., Kyungnam, Korea; and Mitsubishi Heavy Industry, Ltd., Nagoya, Japan are no longer active participants.

No other changes have been made in either the membership or planned activity of the group research project. Membership in this group research project remains open, and Southwest Research Institute: The Consortium for NASGRO Development and Support intends to file additional written notification disclosing all changes in membership.

On October 3, 2001, Southwest Research Institute: the Consortium for NASGRO Development and Support filed its original notification pursuant to section 6(a) of the Act. The Department of Justice published a notice in the Federal Register pursuant to Section 6(b) of the Act on January 22, 2002 (67 FR 2910).

The last notification was filed with the Department on August 7, 2003. A notice was published in the Federal Register pursuant to section 6(b) of the Act on September 8, 2003 (68 FR 52959).

Dorothy B. Fountain,
Deputy Director of Operations, Antitrust Division.

[FR Doc. 04-25861 Filed 11-19-04; 8:45 am]

BILLING CODE 4410-11-M